DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of one individual that has been placed on OFAC's Specially Designated Nationals and Blocked Persons List based on OFAC's determination that one or more applicable legal criteria were satisfied. All property and interests in property subject to U.S. jurisdiction of the individual are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The Specially Designated Nationals and Blocked Persons List and additional information concerning OFAC sanctions programs are available on OFAC's website (https://ofac.treasury.gov/).

Notice of OFAC Action

On May 7, 2024, OFAC determined that the property and interests in property subject to U.S. jurisdiction of the following individual are blocked under the relevant sanctions authorities listed below.

Individual

1. KHOROSHEV, Dmitry Yuryevich (a.k.a. KHOROSHEV, Dmitrii Yuryevich; a.k.a. KHOROSHEV, Dmitriy Yurevich; a.k.a. YURIEVICH, Dmitry; a.k.a. “LOCKBITSUPP”), Russia; DOB 17 Apr 1993; POB Russian Federation; nationality Russia; citizen Russia; Email Address khoroshev1@icloud.com; alt. Email Address sitedev5@yandex.ru; Gender Male; Digital Currency Address—XBT Secondary sanctions risk: Ukraine-/Russia-Related Sanctions Regulations, 31 CFR 589.201; Passport 2018278055 (Russia); alt. Passport 2006801524 (Russia); Tax ID No. 366110340670 (Russia) (individual) [CYBER2].

Designated pursuant to section l (a)(ii)(D) of Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR, 2016 Comp., p. 659 (E.O. 13694, as amended) for being responsible for or complicit in, or having engaged in, directly or indirectly, an activity described in section 1(a)(ii) of E.O. 13694, as amended.

Dated: May 7, 2024.
Lisa M. Palluconi,
Deputy Director, Office of Foreign Assets Control, U.S. Department of the Treasury.

[FR Doc. 2024-10351 Filed 5-10-24; 8:45 am]

BILLING CODE 4810-AL-P